OFFICE OF PERSONNEL MANAGEMENT

Excepted Service

AGENCY: U.S. Office of Personnel Management (OPM).

ACTION: Notice.

SUMMARY: This notice identifies Schedule A, B, and C appointing authorities applicable to a single agency that were established or revoked from October 1, 2012, to October 31, 2012.

FOR FURTHER INFORMATION CONTACT: Senior Executive Resources Services, Executive Resources and Employee Development, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes annually a consolidated listing of all Schedule A, B, and C appointing authorities current as of June 30 as a notice in the Federal Register.

Schedule A

The following Schedule A authority was approved in October:

11. Department of Homeland Security (Sch. A, 213.3111)

(d) General

(1) Not to exceed 1,000 positions to perform cyber risk and strategic analysis, incident handling and malware/vulnerability analysis, program management, distributed control systems security, cyber incident response, cyber exercise facilitation and management, cyber vulnerability detection and assessment, network and systems engineering, enterprise architecture, intelligence analysis, investigation, investigative analysis and cyber-related infrastructure interdependency analysis requiring unique qualifications currently not established by OPM. Positions will be at the General Schedule (GS) grade levels 09-15. No new appointments may be made under this authority after December 31, 2013.

Schedule B

No schedule B authorities to report during October 2012.

Schedule C

The following Schedule C appointing authorities were approved during October 2012.

Agency name | Organization name | Position title | Authorization No. | Effective date
DEPARTMENT OF COMMERCE | Office of the Assistant Secretary for Economic Development | Special Advisor | DC120158 | 10/2/2012
| Office of the General Counsel | Deputy General Counsel for Strategic Initiatives | DC130001 | 10/3/2012
| Assistant Secretary for Market Access and Compliance | Deputy Director, Office of Advisory Committees | DC130002 | 10/12/2012
DEPARTMENT OF DEFENSE | Office of the Under Secretary of Defense | Special Assistant for Personnel and Readiness | DD120126 | 10/17/2012
DEPARTMENT OF EDUCATION | Office of Innovation and Improvement | Confidential Assistant | DB120102 | 10/2/2012
| Office of the Secretary | Chief of Staff | DB120090 | 10/12/2012
| Office of Planning, Evaluation and Policy Development | Confidential Assistant | DB120103 | 10/12/2012
DEPARTMENT OF ENERGY | Assistant Secretary for Energy Efficiency and Renewable Energy | Director of Legislative Affairs | DE120145 | 10/2/2012
| Assistant Secretary for Congressional and Intergovernmental Affairs | Legislative Affairs Specialist | DE120143 | 10/11/2012
DEPARTMENT OF HEALTH AND HUMAN SERVICES | Office of Intergovernmental and External Affairs | Senior Advisor | DH120143 | 10/2/2012
DEPARTMENT OF HOMELAND SECURITY | Office of the Assistant Secretary for Intergovernmental Affairs | Confidential Assistant | DM130009 | 10/17/2012
| Office of the Assistant Secretary for Policy | Chief of Staff | DM130011 | 10/17/2012
DEPARTMENT OF JUSTICE | Civil Division | Counsel | DJ120102 | 10/2/2012
| Office of Public Affairs | Public Affairs Specialist | DJ120103 | 10/2/2012
| Office of Public Affairs | Public Affairs Specialist | DJ130004 | 10/19/2012
DEPARTMENT OF LABOR | Office of Congressional and Intergovernmental Affairs | Senior Counselor | DL120087 | 10/2/2012
DEPARTMENT OF STATE | Bureau for Education and Cultural Affairs | Special Assistant | DS120121 | 10/4/2012
| Bureau of Economic and Business Affairs | Staff Assistant | DS120122 | 10/11/2012
| Bureau of Legislative Affairs | Legislative Management Officer | DS120118 | 10/14/2012
| Bureau of Legislative Affairs | Legislative Management Officer | DS130002 | 10/15/2012
DEPARTMENT OF VETERANS AFFAIRS | Office of the Secretary and Deputy | Special Assistant | DV130007 | 10/12/2012

The following Schedule C appointing authorities were revoked during October 2012.

Agency | Organization | Position title | Authorization No. | Vacate date
DEPARTMENT OF COMMERCE | Office of Executive Secretariat | Special Assistant | DC110074 | 10/6/12
DEPARTMENT OF EDUCATION | Office of Innovation and Improvement | Confidential Assistant | DB110104 | 10/6/12
| Office of Elementary and Secondary Education | Confidential Assistant | DB110107 | 10/6/12
| Office of Elementary and Secondary Education | Special Assistant | DB120061 | 10/6/12
DEPARTMENT OF ENERGY | Office of the Deputy Secretary | Special Assistant | DE110108 | 10/14/12
DEPARTMENT OF HOMELAND SECURITY | Office of the Assistant Secretary for Policy | Senior Advisor to the Assistant Secretary for Policy | DM100123 | 10/20/12
DEPARTMENT OF JUSTICE | Office of Public Affairs | Press Assistant | DJ110121 | 10/20/12
DEPARTMENT OF THE AIR FORCE | Office of the Under Secretary | Special Assistant | DF100056 | 10/20/12
ENVIRONMENTAL PROTECTION AGENCY | Office of the Associate Administrator for External Affairs and Environmental Education | Special Assistant to the Associate Administrator | EP110019 | 10/7/12
OFFICE OF MANAGEMENT AND BUDGET | Communications | Specialist for Strategic Planning and Communications | BO110032 | 10/20/12
OFFICE OF THE SECRETARY OF DEFENSE | Office of the Assistant Secretary of Defense (Asian And Pacific Security Affairs) | Special Assistant to the Assistant Secretary of Defense | DD090243 | 10/20/12
| Office of Principal Deputy Under Secretary for Policy | Special Assistant to the Principal Deputy Under Secretary of Defense | DD090213 | 10/21/12

Authority: 5 U.S.C. 3301 and 3302; E.O. 10577, 3 CFR, 1954-1958 Comp., p. 218.

U.S. Office of Personnel Management.
John Berry,
Director.

[FR Doc. 2012-30124 Filed 12-12-12; 8:45 am]

BILLING CODE 6325-39-P